DEPARTMENT OF HOMELAND SECURITY

Federal Emergency Management Agency

44 CFR Part 67

[Docket No. FEMA-B-7739]

Withdrawal of Proposed Flood Elevation Determination for the Unincorporated Areas of Richland County, SC

AGENCY: Federal Emergency Management Agency, DHS.

ACTION: Proposed rule; withdrawal.

SUMMARY: The Federal Emergency Management Agency (FEMA) withdraws the proposed flood elevation determination published October 16, 2007 for the Unincorporated Areas of Richland County, South Carolina (72 FR 58598).

DATES: The proposed flood elevation determination published on October 16, 2007 at 72 FR 58598, the September 12, 2007 Physical Map Revision, and the November 1, 2007 to January 31, 2008 appeal period associated with the withdrawn proposed flood elevation determinations are withdrawn as of January 24, 2008.

FOR FURTHER INFORMATION CONTACT: William R. Blanton, Jr., Chief, Engineering Management Branch, Mitigation Directorate, Federal Emergency Management Agency, 500 C Street, SW., Washington, DC 20472, (202) 646-3151 or e-mail bill.blanton@dhs.gov.

SUPPLEMENTARY INFORMATION: On September 12, 2007, FEMA issued Preliminary Flood Insurance Rate Maps (FIRMs) through a Physical Map Revision to identify flood hazards along the Congaree River in the Unincorporated Areas of Richland County, South Carolina, hereafter referred to as “Richland County”. On October 16, 2007, FEMA published a proposed rule at 72 FR 58598, October 16, 2007 proposing flood elevation determinations along the Congaree River in Richland County. On October 17, 2007, FEMA issued a letter to the Chairman of the Richland County Council explaining that the appeal period for the proposed flood elevation determinations would begin on November 1, 2007 and end on January 31, 2008.

The purpose of this Federal Register publication is to withdraw the proposed flood elevation determination published October 16, 2007 at 72 FR 58598 for the Unincorporated Areas of Richland County, South Carolina. This document also provides notice that FEMA has withdrawn the September 12, 2007 Physical Map Revision and canceled the November 1, 2007 to January 31, 2008 appeal period associated with the withdrawn proposed flood elevation determinations. The reason for this withdrawal and cancelation is to address a federal district court's November 14, 2007 finding that the October 16, 2007 notice proposing new flood elevation determinations for the Congaree River in the unincorporated areas of Richland County did not comply with the Court's November 18, 2005 Order of Vacatur. FEMA intends to initiate a new revision and propose new flood hazard information; however, affected areas should utilize the effective flood hazard information, in accordance with the November 18, 2005 Order of Vacatur, until such time as updated flood hazard information is proposed by FEMA.

Regulatory Classification. Since this notice withdraws a notice of proposed rulemaking, it is neither a proposed nor a final rulemaking and therefore is not within the scope of Executive Order 12866 of September 30, 1993, Regulatory Planning and Review, 58 FR 51735 or the Regulatory Flexibility Act, 5 U.S.C. 601-612.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are amended to withdraw the following:

The proposed flood elevation determination published in 72 FR 58598, October 16, 2007 for the Unincorporated Areas of Richland County, South Carolina.

Dated: January 15, 2008.
David I. Maurstad,
Federal Insurance Administrator of the National Flood Insurance Program, Federal Emergency Management Agency, Department of Homeland Security.

[FR Doc. E8-1209 Filed 1-23-08; 8:45 am]

BILLING CODE 9110-12-P